DEPARTMENT OF LABOR

Employment and Training Administration

[TA-W-80,459]

Roseburg Forest Products, Composite Panels Division, Missoula, MT; Notice of Affirmative Determination Regarding Application for Reconsideration

By application dated February 29, 2012, a company official requested administrative reconsideration of the negative determination regarding workers' eligibility to apply for Trade Adjustment Assistance (TAA) applicable to workers and former workers of Roseburg Forest Products, Composite Panels Division, Missoula, Montana (subject facility). The Notice of Determination was issued on February 2, 2012 and published in the Federal Register on February 21, 2012 (77 FR 9973).

The workers engage in activities related to the production of particleboard. The initial determination was based on the findings that worker separations were not attributable to increased imports by the subject firm or its declining customers of articles like or directly competitive with particleboard or a shift/acquisition of these articles to/from a foreign country by the workers' firm.

In the request for reconsideration, the petitioner supplied additional information regarding possible import competition.

The Department of Labor has carefully reviewed the request for reconsideration and the existing record, and has determined that the Department will conduct further investigation to determine if the workers meet the eligibility requirements to apply for TAA.

Conclusion

After careful review of the application, I conclude that the claim is of sufficient weight to justify reconsideration of the U.S. Department of Labor's prior decision. The application is, therefore, granted.

Signed at Washington, DC, this 14th day of March 2012.
Del Min Amy Chen,
Certifying Officer, Office of Trade Adjustment Assistance.

[FR Doc. 2012-7159 Filed 3-23-12; 8:45 am]

BILLING CODE 4510-FN-P